DEPARTMENT OF DEFENSE

Office of the Secretary

Charter Renewal of Department of Defense Federal Advisory Committees—Advisory Committee on Arlington National Cemetery

AGENCY: Department of Defense (DoD).

ACTION: Charter renewal of Federal advisory committee.

SUMMARY: The DoD is publishing this notice to announce that it is renewing the charter for the Advisory Committee on Arlington National Cemetery (ACANC).

FOR FURTHER INFORMATION CONTACT: Jim Freeman, DoD Advisory Committee Management Officer, 703-692-5952.

SUPPLEMENTARY INFORMATION: The ACANC's charter is being renewed in accordance with chapter 10 of title 5, United States Code (U.S.C.) (commonly known as the “Federal Advisory Committee Act” or “FACA”) and 41 Code of Federal Regulations (CFR) 102-3.50(a). The charter and contact information for the ACANC's Designated Federal Officer (DFO) are found at https://www.facadatabase.gov/FACA/apex/FACAPublicAgencyNavigation.

The ACANC, pursuant to 10 U.S.C. 7723(b) and (c), provides the Secretary of Defense, Deputy Secretary of Defense (“the DoD Appointing Authority”), and the Secretary of the Army independent advice and recommendations on matters relating to Arlington National Cemetery (ANC). The ACANC shall make periodic reports and recommendations to the Secretary of the Army with respect to the administration of ANC, the erection and design of memorials at the cemetery, and master planning for the cemetery. All advice and recommendations shall also be forwarded to the DoD Appointing Authority. Pursuant to 38 U.S.C. 2409(E)(ii), the Secretary of the Army shall consult with the ACANC before approving the design of a monument placed in the ANC. The ACANC is composed of no more than 9 members who are prominent authorities in their respective fields of interest or expertise, specifically bereavement practices and administrative oversight to organizational management, memorial erection and design, and master planning for extending the life of a cemetery. Membership will consist of public and private sector leaders with a diversity of background, experience, and thought in support of the ACANC mission in one or more of the following disciplines: expertise with bereavement practices and administrative oversight, organizational management, veterans' services, memorial erection and design, and master planning for extending the life of a cemetery. Of the potential members, the Secretary of Veterans Affairs shall nominate one member; the Secretary of the American Battle Monuments Commission shall nominate one member; and the Secretary of the Army shall nominate the remaining members.

Individual members are appointed according to DoD policy and procedures, and serve a term of service of one-to-four years with annual renewals. One member will be appointed as Chair of the ACANC. No member, unless approved according to DoD policy and procedures, may serve more than two consecutive terms of service on the ACANC, or serve on more than two DoD Federal advisory committees at one time.

ACANC members who are not full-time or permanent part-time Federal civilian officers or employees, or active-duty members of the Uniformed Services, are appointed as experts or consultants, pursuant to 5 U.S.C. 3109, to serve as special government employee members. ACANC members who are full-time or permanent part-time Federal civilian officers or employees, or active-duty members of the Uniformed Services are appointed pursuant to 41 CFR 102-3.130(a), to serve as regular government employee members.

All members of the ACANC are appointed to provide advice based on their best judgment without representing any particular point of view and in a manner that is free from conflict of interest. Except for reimbursement of official ACANC-related travel and per diem, members serve without compensation.

The public or interested organizations may submit written statements about the ACANC's mission and functions. Written statements may be submitted at any time or in response to the stated agenda of planned meeting of the ACANC. All written statements shall be submitted to the DFO for the ACANC, and this individual will ensure that the written statements are provided to the membership for their consideration.

Dated: August 9, 2024.
Patricia L. Toppings,
OSD Federal Register Liaison Officer, Department of Defense.

[FR Doc. 2024-18157 Filed 8-13-24; 8:45 am]

BILLING CODE 6001-FR-P